DEPARTMENT OF TRANSPORTATION

Federal Highway Administration

Environmental Impact Statement: Burleigh and Morton Counties, ND

AGENCY: Federal Highway Administration (FHWA), DOT.

ACTION: Notice of intent.

SUMMARY: The FHWA is issuing this notice to advise the public that an environmental impact statement will be prepared for a proposed highway project in Burleigh and Morton Counties, North Dakota.

FOR FURTHER INFORMATION CONTACT: Calvin Larson, Environment and Design Engineer, Federal Highway Administration, 1471 Interstate Loop, Bismarck, North Dakota 58503-0567, Telephone: (701) 250-4204; Terrence Udland, Bridge Engineer, North Dakota Department of Transportation, 608 East Boulevard Avenue, Bismarck, North Dakota 58505-0700, Telephone: (701) 328-1969.

SUPPLEMENTARY INFORMATION: The FHWA, in cooperation with the North Dakota Department of Transportation, will prepare an environmental impact statement (EIS) to determine the best long-term solution for the Liberty Memorial Bridge crossing of the Missouri River. The proposed improvement would involve the rehabilitation or reconstruction of the bridge and approach roadways.

The existing bridge is 80 years old and has developed extensive deterioration and damage due to weathering, ice control chemicals, and traffic conditions. In addition, the bridge approach geometry and lane widths do not conform to current highway standards and therefore constitute a safety hazard. Emergency repairs to the pier caps were completed in 2001. These repairs were limited and are projected to last for only five years.

The bridge is listed on the National Register of Historic Places. It was christened the Liberty Memorial Bridge in honor of North Dakota World War I soldiers. It was the first vehicular bridge over the Missouri River in North Dakota. At the time it was completed, it was the only vehicular bridge between Great Falls, Montana and Sioux City, Iowa. It was also the final link in the coast-to-coast National Parks Highway, later designated U.S. Highway 10.

The alternatives that will likely be evaluated include (1) taking no action; (2) rehabilitating the existing bridge; (3) rehabilitating the existing bridge and constructing a new bridge adjacent to the existing; and (4) constructing a new bridge in the vicinity of the existing bridge and demolishing the existing bridge.

Letters describing the proposed action and soliciting views and comments will be sent to appropriate Federal, State, and local agencies, and to private organizations and citizens who have previously expressed or are known to have an interest in this proposal. Public scoping meetings for identifying significant issues to be addressed in the environmental impact statement will be held on April 8, 2002 in the Bismarck, North Dakota, City Council Chamber and on April 9, 2002 in the Mandan, North Dakota, City Council Chamber.

To ensure that the full range of issues related to this proposed action are addressed and all significant issues identified, comments and suggestions are invited from all interested parties. Comments or questions concerning this proposed action and the EIS should be directed to the North Dakota Department of Transportation or FHWA at the address provided above.

(Catalog of Federal Domestic Assistance Program Number 20.205, Highway Planning and Construction. The regulations implementing Executive Order 12372 regarding intergovernmental consultation of Federal programs and activities apply to this program)
Issued on: March 8, 2002.
J. Michael Bowen,
Division Administrator, Federal Highway Administration, Bismarck, North Dakota.

[FR Doc. 02-7015 Filed 3-22-02; 8:45 am]

BILLING CODE 4910-22-M